DEPARTMENT OF ENERGY

Federal Energy Regulatory Commission

[Docket No. EG02-119-000, et al.]

Celerity Energy of Colorado, LLC, et al.; Electric Rate and Corporate Regulation Filings

April 19, 2002.

Take notice that the following filings have been made with the Commission:

1. Celerity Energy of Colorado, LLC

[Docket No. EG02-119-000]

Take notice that on April 17, 2002, Celerity Energy of Colorado, LLC (Applicant), having its principal place of business at 8455 SW Halter Terrace, Beaverton, Oregon 97008, filed with the Federal Energy Regulatory Commission (Commission) an application for determination of exempt wholesale generator status pursuant to Part 365 of the Commission's regulations.

The Applicant, a Colorado limited liability company, seeks exempt wholesale generator status for its Networked Distributed Resource (ANDR) facilities. NDR facilities aggregate commercial and industrial standby generators to provide electric energy for sale at wholesale.

Comment Date: May 10, 2002.

2. Big Cajun I Peaking Power LLC

[Docket No. EG02-120-000]

Take notice that on April 17, 2002, Big Cajun I Peaking Power LLC (Big Cajun I Peaking) filed with the Federal Energy Regulatory Commission (Commission) an application for determination of exempt wholesale generator status pursuant to section 32 of the Public Utility Holding Company Act of 1935 (PUHCA) and Part 365 of the Commission's regulations.

As more fully explained in the application, Big Cajun I Peaking is a limited liability company that states it will be engaged either directly or indirectly and exclusively in the business of owning and operating an electric generation facility located in Louisiana.

Comment Date: May 10, 2002.

3. Duke Power, a Division of Duke Energy Corporation

[Docket No. ER00-3454-000]

Take notice that on April 16, 2002, Duke Power (Duke), a division of Duke Energy Corporation, tendered for filing its quarterly transaction summaries of power marketing activity for transactions conducted pursuant to its market-based rate tariffs, FERC Electric Tariff Original Volume No. 3 and FERC Electric Tariff Original Volume No. 5, for the quarter ending March 31, 2002.

Comment Date: May 7, 2002.

4. Southern Company Services, Inc.

[Docket No. ER02-352-002]

Take notice that on April 2, 2002, Southern Company Services, Inc., as agent for Georgia Power Company (Applicant), filed in Docket No. ER02-352-002, a Motion for Leave to Answer and Answer of Southern Company Services, Inc. in Opposition to the Motion to Intervene and Protest of Calpine Construction Finance Company, L.P., Competitive Power Ventures, Inc., Duke Energy North America, LLC, and GenPower, LLC. Please note that because this pleading contains significant new information pertinent to the Applicant's earlier filings in this proceeding, it is being treated as an amendment to the filing and is assigned a new sub-docket. Issues raised by interested parties in answer to Applicant's April 2nd filing should be raised again with the Commission in order to be considered in this proceeding.

Comment Date: May 6, 2002.

5. Puget Sound Energy, Inc.

[Docket No. ER02-1553-000]

Take notice that on April 16, 2002, Puget Sound Energy, Inc., as Transmission Provider, tendered for filing a service agreement for Non-Firm Point-To-Point Transmission Service with Epcor Merchant and Capital (US) Inc. (Epcor), as Transmission Customer. A copy of the filing was served upon Epcor.

Comment Date: May 7, 2002.

6. Cinergy Services, Inc.

[Docket No. ER02-1554-000]

Take notice that on April 16, 2002, Cinergy Services, Inc. (Cinergy) and Entergy Power Marketing Corporation are requesting a cancellation of Service Agreement No. 206, under Cinergy Operating Companies, FERC Electric Cost-Based Power Sales Tariff, FERC Electric Tariff Original Volume No.6.

Cinergy requests an effective date of April 17, 2002.

Comment Date: May 7, 2002.

7. Cinergy Services, Inc.

[Docket No. ER02-1555-000]

Take notice that on April 16, 2002, Cinergy Services, Inc. (Cinergy) and Entergy Power Marketing Corporation are requesting a cancellation of Service Agreement No. 54, under Cinergy Operating Companies, FERC Resale, Assignment or Transfer of Transmission Rights and Ancillary Service Rights Sales Agreement, FERC RTR Tariff Original Volume No.8.

Cinergy requests an effective date of April 17, 2002.

Comment Date: May 7, 2002.

8. Cinergy Services, Inc.

[Docket No. ER02-1556-000]

Take notice that on April 16, 2002, Cinergy Services, Inc. (Cinergy) and Entergy Power Marketing Corporation are requesting a cancellation of Service Agreement No. 209, under Cinergy Operating Companies, FERC Electric Market-Based Power Sales Tariff, FERC Electric Tariff Original Volume No.7.

Cinergy requests an effective date of April 17, 2002.

Comment Date: May 7, 2002.

9. San Diego Gas & Electric Company

[Docket No. ER02-1557-000]

Take notice that on April 16, 2002 San Diego Gas & Electric Company (SDG&E) tendered for filing its Final Costs and Operation & Maintenance (O&M) Rate Change in the above docket. The Final Costs and O&M rate apply to the generation plant owned by RAMCO, Inc. (RAMCO) and located in the city of Chula Vista, California.

By this filing, SDG&E requests approval of the $791,262.15 total costs of the interconnection facilities, which includes applicable taxes. In addition, SDG&E requests approval of a change in the monthly O&M rate to .00376 times the cost of the facilities minus the taxes.

SDG&E states that copies of the filing have been served on the service list established for this proceeding.

Comment Date: May 7, 2002.

10. San Diego Gas & Electric Company

[Docket No. ER02-1558-000]

Take notice that on April 16, 2002, San Diego Gas & Electric Company (SDG&E) tendered for filing its Final Costs and Operation & Maintenance (O&M) Rate Change in the above docket. The Final Costs and O&M rate apply to the generation plant owned by RAMCO, Inc. (RAMCO) and located in the city of Escondido, California.

By this filing, SDG&E requests approval of the $399,781.15 total costs of the interconnection facilities, which includes applicable taxes. In addition, SDG&E requests approval of a change in the monthly O&M rate to .00376 times the cost of the facilities minus the taxes.

SDG&E states that copies of the filing have been served on the service list established for this proceeding.

Comment Date: May 7, 2002.

11. Florida Power & Light Company

[Docket No. ER02-1560-000]

Take notice that on April 16, 2002, Florida Power & Light Company (FPL) filed a Service Agreement for Select Energy, Inc. for service pursuant to FPL's Market Based Rates Tariff.

FPL requests that the Service Agreement be made effective on April 11, 2002.

Comment Date: May 7, 2002.

12. Michigan Electric Transmission Company

[Docket No. ER02-1561-000]

Take notice that on April 16, 2002, Michigan Electric Transmission Company (Michigan Transco) tendered for filing executed Service Agreements for Firm and Non-Firm Point to Point Transmission Service (Agreements) with Constellation Power Source, Inc. (Customer) pursuant to the Joint Open Access Transmission Service Tariff originally filed on February 22, 2001 by Michigan Transco and International Transmission Company (ITC).

The Service Agreements being filed are Nos. 167 and 168 under that tariff. Michigan Transco is requesting an effective date of April 1, for the Agreement. Copies of the Agreement were served upon the Michigan Public Service Commission, ITC and the Customer.

Comment Date: May 7, 2002.

13. Southern California Edison Company

[Docket No. ER02-1562-000]

Take notice, that on April 16, 2002, Southern California Edison Company (SCE) tendered for filing the Amended and Restated City—Edison Pacific Intertie DC Transmission Facilities Agreement (Amended Agreement) between SCE and the City of Los Angeles Department of Water and Power (LADWP). The Amended Agreement reflect SCE's and LADWP's (Parties) negotiations to amend the original agreement in order to incorporate into the Amended Agreement the additional rights and obligations of the Parties relating to the Sylmar Converter Station operations and management to reduce project operations and maintenance expenses by installing capital replacement facilities expected to be completed by 2005.

SCE requests the Commission to assign an effective date June 15, 2002 to the Amended Agreement. Copies of this filing were served upon the Public Utilities Commission of California and LADWP.

Comment Date: May 7, 2002.

14. Southern Company Services, Inc.

[Docket No. ER02-1563-000]

Take notice that on April 16, 2002, Southern Company Services, Inc. (SCS) as agent for Alabama Power Company (Alabama Power), Georgia Power Company, Gulf Power Company, Mississippi Power Company, and Savannah Electric and Power Company (collectively, Southern Companies), submitted for filing the First Revised Service Agreement No. 6, Generator Balancing Service Agreement between Calpine Energy Services, L.P. (Calpine) and Southern Companies (the First Revised Service Agreement). The First Revised Service Agreement reflects the assignment of the rights and obligations of Service Agreement No. 6, Generator Balancing Service Agreement between Coral Power Company, L.L.C. and Southern Companies dated as of May 1, 2001 to Calpine, pursuant to the Assignment and Assumption Agreement between Calpine and Coral Power dated as of September 10, 2001.

Comment Date: May 7, 2002.

15. Ohio Valley Electric Corporation

[Docket No. ER02-1564-000]

Take notice that on April 16, 2002, Ohio Valley Electric Corporation (OVEC) tendered for filing a Notice of Cancellation of the Amended and Restated Interconnection and Operation Agreement, dated as of June 19, 2001 (the Interconnection Agreement) between OVEC and Jackson County Power, LLC (JCP), designated as First Revised Service Agreement No. 47 under OVEC's FERC Electronic Tariff, Original Volume No. 1.

OVEC proposes an effective date of June 14, 2002. A copy of this filing was served upon JCP and the Public Utilities Commission of Ohio.

Comment Date: May 7, 2002.

16. Progress Energy, Inc.

[Docket No. ER02-1569-000]

Take notice that on April 12, 2002, Progress Energy, Inc. (Progress Energy), on behalf of Florida Power Corporation (FPC), tendered for filing an executed Facility Interconnection and Operating Agreement (Interconnection Agreement) between Carolina Power & Light Company (CP&L) and Cogentrix Eastern Carolina, LLC (Cogentrix) under FPC's Open Access Transmission Tariff, Second Revised Volume No. 6. The Interconnection Agreement has previously been filed under CP&L's Open Access Transmission Tariff, Third Revised Volume No. 3 on March 1, 2002 in Docket No. ER02-1212-000 (March 1st Filing).

Progress Energy respectfully requests that the Interconnection Agreement become effective February 4, 2002, as originally requested in the March 1st Filing. Copies of the filing were served upon the North Carolina Utilities Commission, the Florida Public Service Commission and Cogentrix.

Comment Date: May 3, 2002.

17. Nevada Power Company

[Docket No. ER02-1570-000]

Take notice that on April 16, 2002, Nevada Power Company tendered for filing two Letter Agreements between Nevada Power Company and the following generators: (1) GenWest, LLC; and (2) Moapa Energy Center, LLC. The Letter Agreements are submitted as Service Agreement Nos. 114 and 115, respectively, to Nevada Power's Open Access Transmission Tariff. Nevada Power Company requests that the Letter Agreements be made effective as of the execution date of each agreement.

Comment Date: May 7, 2002.

18. Bayou Cove Peaking Power, LLC, Big Cajun I Peaking Power LLC, and NRG Rockford II LLC

[Docket No. ES02-29-000]

Take notice that on April 17, 2002, Bayou Cove Peaking Power, LLC, Big Cajun I Peaking Power LLC, and NRG Rockford II LLC submitted an application pursuant to section 204 of the Federal Power Act seeking authorization to incur long-term indebtedness under an intercompany loan and to guarantee the bonds, in an aggregate amount of up to $330 million.

Comment Date: May 8, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-10253 Filed 4-25-02; 8:45 am]

BILLING CODE 6717-01-P